DEPARTMENT OF LABOR

Employment and Training Administration

[TA-W-72,041]

Aleris Blanking and Rim Products, Inc., a Division of Aleris International, Inc., Terre Haute, IN; Notice of Affirmative Determination Regarding Application for Reconsideration

By application dated January 29, 2010, the petitioner requested administrative reconsideration of the negative determination regarding workers' eligibility to apply for Trade Adjustment Assistance (TAA) applicable to workers and former workers of the subject firm. The determination was issued on December 10, 2009 and the Notice of Determination was published in the Federal Register on January 25, 2010 (75 FR 3932).

The initial investigation resulted in a negative determination based on the findings that imports of aluminum blanks and hoops did not contribute importantly to worker separations at the subject firm and no shift of production to a foreign source occurred.

In the request for reconsideration, the petitioner provided additional information regarding customers of the subject firm.

The Department has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 18th day of February, 2010.
Elliott S. Kushner,
Certifying Officer, Division of Trade Adjustment Assistance.

[FR Doc. 2010-4247 Filed 3-1-10; 8:45 am]

BILLING CODE 4510-FN-P